DEPARTMENT OF HEALTH AND HUMAN SERVICES

Centers for Disease Control and Prevention

Safety and Occupational Health Study Section: Notice of Charter Renewal

This gives notice under the Federal Advisory Committee Act (Public Law 92-463) of October 6, 1972, that the Safety and Occupational Health Study Section, National Institute for Occupational Safety and Health (NIOSH), Centers for Disease Control and Prevention of the Department of Health and Human Services, has been renewed for a 2-year period extending through June 30, 2004.

For further information, contact Charles N. Rafferty, Ph.D., Executive Secretary, Safety and Occupational Health Study Section, National Institutes of Health, 6701 Rockledge Drive, Room 4114, MSC 7816, Bethesda, MD 20892, 301/435-3562 FAX 301/480-2644.

The Director, Management Analysis and Services Office, has been delegated the authority to sign Federal Register notices pertaining to announcements of meetings and other committee management activities for both CDC and the Agency for Toxic Substances and Disease Registry.

Dated: July 10, 2002.
John Burckhardt,
Acting Director, Management Analysis and Services Office, Centers for Disease Control and Prevention.

[FR Doc. 02-17945 Filed 7-16-02; 8:45 am]

BILLING CODE 4163-19-P